FEDERAL EMERGENCY MANAGEMENT AGENCY

44 CFR Part 65

Docket No. FEMA-P-7618

Changes in Flood Elevation Determinations

AGENCY: Federal Emergency Management Agency, (FEMA).

ACTION: Interim rule.

SUMMARY: This interim rule lists communities where modification of the Base (1-percent-annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has 90 days in which to request through the community that the Administrator for Federal Insurance and Mitigation Administration reconsider the changes. The modified BFEs may be changed during the 90-day period.

ADDRESSES: The modified BFEs for each community are available for inspection at the office of the Chief Executive Officer of each community. The respective addresses are listed in the table below.

FOR FURTHER INFORMATION CONTACT: Matthew B. Miller, Chief, Hazards Study Branch, Federal Insurance and Mitigation Administration, 500 C Street, SW., Washington, DC 20472, (202) 646-3461 or (e-mail) matt.miller@fema.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Administrator for Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community no.
Illinois: Lake and Cook (Case No. 02-05-2130P) | Village of Deerfield | September 19, 2002, September 23, 2002, Deerfield Review | The Honorable Steven B. Harris, Mayor, Village of Deerfield, Village Hall, 850 Waukegan Road, Deerfield, IL 60015 | September 6, 2002 | 170361
Indiana: Hamilton (Case No. 02-05-2995P) | Town of Westfield | October 22, 2002, October 29, 2002, The Noblesville Ledger | Mr. Michael McDonald, Town Council President, Town of Westfield, 130 Penn Street, Westfield, IN 46074 | September 24, 2002 | 180083
Kansas: Johnson (Case No. 02-07-1010P | City of Lenexa | October 22, 2002, October 29, 2002, The Legal Record | The Honorable Joan Bowman, Mayor, City of Lenexa, 12350 W. 87th Street Parkway, Lenexa, KS 66215 | September 19, 2002 | 200168
Kansas: Harvey (Case No. 02-07-1008P) | City of Newton | September 20, 2002, September 27, 2002, The Newton Kansan | The Honorable Marjorie Roberson, Mayor, City of Newton, 201 E. 6th Street, Newton, KS 67114 | September 10, 2002 | 200133
Kansas: Johnson (Case No. 02-07-1010P) | City of Shawnee | October 24, 2002, October 31, 2002, The Journal Herald | The Honorable Jim Allen, Mayor, City of Shawnee, 11110 Johnson Drive, Shawnee, KS 66203 | September 19, 2002 | 200177
Michigan; Wayne (Case No. 01-05-3983P) | Charter Township of Brownstown | September 11, 2002, September 18, 2002, The News-Herald | Mr. W. Curt Boller, Supervisor, Brownstown Township, 21313 Telegraph Road, Brownstown Township, MI 48183 | December 11, 2002 | 260218
Minnesota: Dakota (Case No. 02-05-1843P) | City of Burnsville | October 24, 2002, October 31, 2002, Dakota County Tribune | The Honorable Elizabeth Kautz, Mayor, City of Burnsville, 100 Civic Center Parkway, Burnsville, MN 55337 | September 30, 2002 | 270102
Missouri: Greene (Case No. 00-07-676P) | Unincorporated Areas | October 9, 2002, October 16, 2002, Springfield News-Leader | The Honorable David L. Coonrod, Presiding Commissioner, County of Greene, 940 Boonville Avenue, Springfield, MO 65802 | January 15, 2003 | 290782
Missouri: Jasper and Newton (Case No. 01-07-831P) | City of Joplin | October 4, 2002, October 11, 2002, The Joplin Globe | The Honorable Richard H. Russell, Mayor, City of Joplin, 1710 East 32nd Street, Joplin, MO 64804 | January 10, 2003 | 290183
Texas: Bexar (Case No. 02-06-1263P) | Unincorporated Areas | September 23, 2002, September 30, 2002, San Antonio Express News | The Honorable Cyndi Taylor Krief, Judge, Bexar County, 100 Dolorosa, Suite 101, San Antonio, TX 78205 | October 14, 2002 | 480035
Texas: Dallas (Case No. 01-06-1163P) | City of Dallas | September 13, 2002, September 20, 2002, Dallas Morning News | The Honorable Laura Miller, Mayor, City of Dallas, 1500 Marilla Street, City Hall, Dallas, TX 75201 | December 20, 2002 | 480171
Texas: Fort Bend (Case No. 02-06-266P) | Unincorporated Areas | September 4, 2002, September 11, 2002, Fort Bend Star | The Honorable James C. Adolpus, Judge, Fort Bend County, 301 Jackson Street, Suite 719, Richmond, TX 77469 | August 22, 2002 | 480228
Texas: Tarrant (Case No. 02-06-064P) | City of Fort Worth | September 13, 2002, September 20, 2002, Fort Worth Star Telegram | The Honorable Kenneth Barr, Mayor, City of Fort Worth, City Hall, 1000 Throckmorton Street, Forth Worth, TX 76102 | August 30, 2002 | 480596
Texas: Tarrant (Case No. 02-06-1073P) | City of Fort Worth | September 26, 2002, October 3, 2002, Forth Worth Star Telegram | The Honorable Kenneth Barr, Mayor, City of Fort Worth, 1000 Throckmorton Street, Forth Worth, TX 76102 | January 2, 2003 | 480596
Texas: Dallas (Case No. 02-06-1091P) | City of Irving | September 5, 2002, September 12, 2002, The Irving Morning News | The Honorable Joe Putnam, Mayor, City of Irving, P.O. Box 152288, Irving, TX 75015 | August 19, 2002 | 480180
Texas: Dallas (Case No. 02-06-384P) | City of Irving | September, 12, 2002, September 19, 2002, The Irving Morning News | The Honorable Joe Putnam, Mayor, City of Irving, P.O. Box 15228, Irving, TX 75015 | December 19, 2002 | 480180
Texas: Dallas (Case No. 01-06-1088P) | City of Lancaster | October 24, 2002, October 31, 2002, Lancaster Today | The Honorable Joe Tillotson, Mayor, City of Lancaster, P.O. Box 940, Lancaster, TX 75146 | January 27, 2003 | 480182
Texas: Denton (Case No. 02-06-731P) | City of Lewisville | September 25, 2002, October 2, 2002, Denton County Morning News | The Honorable Gene Carey, Mayor, City of Lewisville, P.O. Box 299002, Lewisville, TX 75029 | September 12, 2002 | 480195
Texas: Montgomery (Case No. 01-06-1444P) | City of Magnolia | September 11, 2002, September 18, 2002, Magnolia Potpourri | The Honorable Frank M. Parker III, Mayor, City of Magnolia, P.O. Box 996, Magnolia, TX 77355 | August 30, 2002 | 481261
Texas: Fort Bend (Case No. 02-06-266P) | City of Missouri City | September 5, 2002, September 12, 2002, Fort Bend Mirror | The Honorable Allen Owen, Mayor, City of Missouri City, P.O. Box 666, Missouri City, TX 77459 | August 22, 2002 | 480304
Texas: Montgomery (Case No. 01-06-1444P) | Unincorporated Areas | September 11, 2002, September 18, 2002, The Courier | The Honorable Alan B. Sadler, Judge, Montgomery County, 301 North Thompson Street, Suite 210, Conroe, TX 77301 | August 30, 2002 | 480483
Texas: Bexar (Case No. 02-06-1263P) | City of San Antonio | September 23, 2002, September 30, 2002, San Antonio Express News | The Honorable Ed Garza, Mayor, City of San Antonio, P.O. Box 839966, San Antonio, TX 78283 | September 13, 2002 | 480045
Texas: Bexar (Case No. 02-06-2309P) | City of San Antonio | October 15, 2002, October 22, 2002, San Antonio Express News | The Honorable Ed Garza, Mayor, City of San Antonio, P.O. Box 839966, San Antonio, TX 78283 | January 21, 2003 | 480045
Texas: Bexar (Case No. 02-06-1679P) | City of San Antonio | October 23, 2002, October 30, 2002, San Antonio Express News | The Honorable Ed Garza, Mayor, City of San Antonio, P.O. Box 839966, San Antonio, TX 78283 | January 29, 2003 | 480045
Texas: Bexar (Case No. 02-06-2309) | City of Shavano Park | October 15, 2002, October 22, 2002, San Antonio Express News | The Honorable Tommy Peyton, Mayor, City of Shavano Park, City Hall, 99 Saddletree Road, San Antonio, TX 78231 | January 21, 2003 | 480047
Texas: Tarrant (Case No. 02-06-1098P) | City of Southlake | September 12, 2002, September 19, 2002, Fort Worth Star Telegram | The Honorable Rick Stacy, Mayor, City of Southlake, 1400 Main Street, Southlake, TX 76092 | December 19, 2002 | 480612
Texas: Fort Bend (Case No. 02-06-266P) | City of Sugar Land | September 4, 2002, September 11, 2002, Fort Bend Star | The Honorable David G. Wallace, Mayor, City of Sugar Land, P.O. Box 110, Sugar Land, TX 77487-0110 | August 22, 2002 | 480234

(Catalog of Federal Domestic Assistance No. 83.100, “Flood Insurance.”)
Dated: November 13, 2002.
Anthony S. Lowe,
Administrator, , Federal Insurance and Mitigation Administration.

[FR Doc. 02-29964 Filed 11-25-02; 8:45 am]

BILLING CODE 6718-04-P